Title 3—

The President

Executive Order 13576 of June 13, 2011

Delivering an Efficient, Effective, and Accountable Government

By the authority vested in me as President by the Constitution and the laws of the United States of America, and in order to cut waste, streamline Government operations, and reinforce the performance and management reform gains my Administration has achieved, it is hereby ordered as follows:

Section 1. Policy. My Administration is committed to ensuring that the Federal Government serves the American people with the utmost effectiveness and efficiency. Over the last 2 years, we have made good progress and have saved taxpayer dollars by cutting waste and increasing the efficiency of Government operations by curbing uncontrolled growth in contract spending, terminating poorly performing information technology projects, deploying state of the art fraud detection tools to crack down on waste, focusing agency leaders on achieving ambitious improvements in high priority areas, and opening Government up to the public to increase accountability and accelerate innovation.

The American people must be able to trust that their Government is doing everything in its power to stop wasteful practices and earn a high return on every tax dollar that is spent. To strengthen that trust and deliver a smarter and leaner Government, my Administration will reinforce the performance and management reform gains achieved thus far; systematically identify additional reforms necessary to eliminate wasteful, duplicative, or otherwise inefficient programs; and publicize these reforms so that they may serve as a model across the Federal Government.

The implementation of the American Recovery and Reinvestment Act of 2009 (Public Law 111-5) (Recovery Act) has seen unprecedented transparency. The Recovery Accountability and Transparency Board (RATB) has developed innovative technologies and approaches for preventing and identifying fraud and abuse that have the potential to improve performance across all of Government spending.

Sec. 2. Accountable Government Initiative. (a) On September 14, 2010, in a Memorandum to the Senior Executive Service, my Administration introduced goals for the Accountable Government Initiative (Initiative). The mission of the Initiative is to monitor and promote agency progress in making Government work better, faster, and more efficiently. To hold executive departments and agencies (agencies) accountable for obtaining results consistent with this mission, the Vice President shall convene periodic meetings in which Cabinet members and the Director of the Office of Management and Budget (OMB) report to him on improvements implemented under their direction.

(b) The Federal Chief Performance Officer (CPO), who also serves as the Deputy Director for Management of OMB and the Chair of the President's Management Council (PMC), shall work with the PMC to support agencies' performance and management reform and cost-cutting efforts. The CPO will lead OMB and the PMC in identifying practices that should be adopted across agencies and in facilitating reforms that require cross-agency coordination and cooperation. The CPO shall work with agencies to ensure that each area identified as critical to performance improvement has robust performance metrics in place, and that these metrics are frequently analyzed and reviewed by agency leadership. Agencies shall update these metrics quarterly, as appropriate, on the website performance.gov.

(c) In accordance with the GPRA Modernization Act of 2010 (31 U.S.C. 1115 et seq.), each agency's Chief Operating Officer (COO) shall be designated as the Senior Accountable Official responsible for leading performance and management reform efforts, and for reducing wasteful or ineffective programs, policies, and procedures. In discharging this responsibility, this official shall be accountable for conducting frequent data-driven reviews of agency progress toward goals in the areas that OMB identifies as being critical to performance improvement across agencies or that the agency head identifies as top near-term priorities. These goals may include reforming information technology, reducing improper payments, leveraging the Federal Government's purchasing scale, reducing high-risk contracting practices, improving the management of Federal real estate, enhancing customer service, and achieving agency and Federal Government priority goals identified pursuant to the GPRA Modernization Act of 2010.

(d) The Director of OMB shall provide guidance to agencies as part of the Fiscal Year 2013 budget process for identifying areas of program overlap and duplication within and across agencies, and for proposing consolidations and reductions to address those inefficiencies.

(e) The Chief Financial Officers (CFOs) at all agencies shall be responsible for achieving agency cost savings. This will include each agency's share of the $2.1 billion in administrative cost savings identified in my Fiscal Year 2012 Budget, and for achieving those savings as quickly as possible. The CFOs are encouraged to realize these cost savings by targeting wasteful practices and by reducing, and identifying alternatives to, discretionary travel, the use of consultants, and other administrative expenses. The Federal CFO Council shall provide a monthly report on these efforts to the PMC, with relevant findings and progress reported on performance.gov.

Sec. 3. Government Accountability and Transparency Board. (a) There is hereby established a Government Accountability and Transparency Board (Board) to provide strategic direction for enhancing the transparency of Federal spending and advance efforts to detect and remediate fraud, waste, and abuse in Federal programs. The Board shall be composed of 11 members designated by the President from among agency Inspectors General, agency Chief Financial Officers or Deputy Secretaries, a senior official of OMB, and such other members as the President shall designate. The President shall designate a Chair from among the members. Building on the lessons learned from the successful implementation of the Recovery Act, the Board shall work with the RATB to apply the approaches developed by the RATB across Government spending.

(b) Not later than 6 months after the date of this order, the Board shall submit a report to the President that identifies implementation guidelines for integrating systems that support the collection and display of Government spending data, ensuring the reliability of those data, and broadening the deployment of fraud detection technologies, including those proven successful during the implementation of the Recovery Act.

(c) The Director of OMB, in consultation with the Board, shall be responsible for assisting executive agencies in achieving objectives in the guidelines identified in subsection (b) above.

(d) The Chair of the Board, in consultation with the Director of OMB, shall provide monthly updates to the Vice President on the progress obtained under this order.

Sec. 4. General Provisions. (a) Nothing in this order shall be construed to impair or otherwise affect:

(i) authority granted by law to a department or agency, or the head thereof; or

(ii) functions of the Director of the Office of Management and Budget related to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

June 13, 2011.

[FR Doc. 2011-15181

Filed 6-15-11; 11:15 am]

Billing code 3195-W1-P